NATIONAL SCIENCE FOUNDATION

Advisory Committee for Engineering; Notice of Meeting

In accordance with the Federal Advisory Committee Act (Pub. L. 92-463, as amended) the National Science Foundation announces the following meeting.

Name and Committee Code: Advisory Committee for Engineering (#1170).

Date and Time: Thursday, October 9, 2003/1-5 p.m. Friday, October 10, 2003/8:30 a.m.-12 p.m.

Place: National Science Foundation, 4201 Wilson Boulevard, Arlington, VA 22230, Stafford I, Room 1235.

Type of Meeting: Open.

FOR FURTHER INFORMATION CONTACT: Deborah B. Young, Administrative Officer, Office of the Assistant Director for Engineering, National Science Foundation, Suite 505, 4201 Wilson Boulevard, Arlington, VA 22230; Telephone: (703) 292-4611. If you are attending the meeting and need access to the NSF building, please contact Maxine Byrd at 703-292-4601 or at mbyrd@nsf.gov so that your name can be added to the building access list.

Minutes: May be obtained from the contact person listed above.

Purpose of Meeting: To provide advice, recommendations, and counsel on major goals and policies pertaining to Engineering programs and activities.

Agenda: The principal focus of the forthcoming meeting will be on strategic issues, both for the Directorate and the Foundation as a whole. The Committee will also address matters relating to the future of the engineering profession, and engineering education.

Dated: September 10, 2003.
Susanne Bolton,
Committee Management Officer.

[FR Doc. 03-23500 Filed 9-12-03; 8:45 am]

BILLING CODE 7555-01-M